CONSUMER PRODUCT SAFETY COMMISSION

[Docket No. CPSC-2009-0093]

Agency Information Collection Activities; Proposed Collection; Comment Request; Consumer Opinion Forum

AGENCY: Consumer Product Safety Commission.

ACTION: Notice.

SUMMARY: As required by the Paperwork Reduction Act of 1995 (44 U.S.C. Chapter 35), the Consumer Product Safety Commission (CPSC or Commission) requests comments on a proposed extension of approval of a collection of information from persons who may voluntarily register and participate in a Consumer Opinion Forum on the CPSC Web site, wwww.cpsc.gov. The Commission will consider all comments received in response to this notice before requesting an extension of this collection of information from the Office of Management and Budget (OMB).

DATES: Submit written or electronic comments on the collection of information by March 31, 2014.

ADDRESSES: You may submit comments, identified by Docket No. CPSC-2009-0093, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions in the following way: Mail/Hand delivery/Courier (for paper, disk, or CD-ROM submissions), preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number, CPSC-2009-0093, into the “Search” box, and follow the prompts.

FOR FURTHER INFORMATION CONTACT: Robert H. Squibb, Consumer Product Safety Commission, 4330 East West Highway, Bethesda, MD 20814; (301) 504-7815, or by email to: rsquibb@cpsc.gov.

SUPPLEMENTARY INFORMATION:

A. Background

Section 5(a) of the Consumer Product Safety Act (CPSA), 15 U.S.C. 2054(a), authorizes the Commission to conduct studies and investigations relating to the causes and prevention of deaths, accidents, injuries, illnesses, other health impairments, and economic losses associated with consumer products. Section 5(b) of the CPSA, 15 U.S.C. 2054(b), further provides that the Commission may conduct research, studies and investigations on the safety of consumer products or test consumer products and develop product safety test methods and testing devices.

To help identify and evaluate product-related incidents, Commission staff seeks to solicit consumer opinions and perceptions about consumer product use, on a voluntary basis, through questions posted on the CPSC's Consumer Opinion Forum (Forum). The Forum invites consumers to answer questions and provide information regarding their experiences, opinions, and/or perceptions on the use, or pattern of use, of a specific product, or type of product. The Forum is intended for consumers, 18 years and older, who have access to the Internet and email, who voluntarily register to participate through a participant registration process, and respond to the questions posted in the Forum. The CPSC Web site, www.cpsc.gov, links to the Forum login page. Consumers may link directly to the login page for the Forum at https://www.cpsc.gov/cgibin/cof/login.aspx. When CPSC posts new questions on the agency's Web site, CPSC will send an email to registered participants (no more frequently than every four weeks), inviting participants to respond to various questions. Consumer responses are seen only by CPSC staff.

The information that the agency collects from the Forum will help inform the Commission's identification and evaluation of consumer products and product use, by providing insight and information into consumer perceptions and usage patterns. This information may also assist the Commission in its efforts to support voluntary standards activities, and help CPSC identify consumer safety issues requiring additional research. In addition, based on the information obtained, CPSC may be able to provide safety information to the public that is easier to read and understood by a wider range of consumers. For example, CPSC may want to propose new language or revise existing language in warning labels or manuals if many Forum participants perceive that certain warning language is unclear or subject to misinterpretation.

In addition, CPSC may use the Forum to solicit consumer opinions about the effectiveness of product recall communications and what actions consumers take in response to such communications and why. This information may help CPSC to tailor future recall activities to increase the success of those activities.

Four surveys have been conducted thus far. The first survey sought information on consumer experiences with recalled products. The second survey sought information on consumer experiences with electrical outlets that contain ground fault circuit interrupters (GFCIs). The third survey sought information on consumer experiences with clothes dryers and clothes dryer maintenance. The fourth survey sought information on consumer experiences with tipovers of televisions.

B. Burden Hours

1. Respondents

The Forum has been in existence since June 2007. As of January 7, 2014, 3,489 have registered to participate in the Forum. The CPSC has not limited the total number of Forum respondents, and registration continues to be open. Based on the rate at which participants are registering, however, staff does not believe that the total number of registrants will increase substantially over the next few years. Staff believes that the number of registrants is not likely to exceed the CPSC staff's original estimate of 5,000 respondents. Staff estimates that registration takes no more than 10 minutes; the aggregate registration burden is estimated to be about 83 burden hours per year.

The time required for a respondent to respond to survey questions varies considerably, depending upon the specific number, type, and complexity of questions asked. Although this variability makes the time to respond to a survey difficult to estimate, staff estimates that respondents will need less than 15 minutes to complete any Forum survey.

CPSC has conducted four surveys. Although the starting and ending times for each completed survey are available, because respondents can begin a survey and return later to complete the survey, the results may overstate the actual time spent responding to the survey. The resulting data show that the average completion times for the four surveys were 9.5, 5.0, 9.3, and 4.3 minutes, respectively. However, the median completion times of 4.3, 3.4, 5.4, and 3.0 minutes, respectively, are more likely to reflect the true “average” completion time.

For each survey, staff estimates that the aggregate burden to all respondents would not exceed 73 hours (25 percent response rate for 3,489 potential respondents at about 5 minutes per survey). If CPSC conducted one survey per year, the total estimated burden for new registrations and surveys, combined, would not exceed 156 hours annually (73 hours per survey, plus 83 hours for new registrations).

According to the September 2013, press release from the Bureau of Labor Statistics, the average compensational hourly rate is $29.23 (U.S. Bureau of Labor Statistics, “Employer Costs for Employee Compensation,” September 2013, Table 9, total compensation for all workers in private industries: http://www.bls.gov/ncs/). Thus, the total annual aggregate cost for all participants in one survey is estimated at $4,560.

2. Federal Government

The total staff time for preparing questions for the Forum, maintaining the Forum, and analyzing the responses from the Forum is estimated at about one staff month per year, or about one staff month per survey. Accordingly, if CPSC conducts one survey each year, we estimate the total staff time to be one staff month annually. The estimated total cost of this collection to the federal government is $14,380, based on an annual compensation of $119,238 (the equivalent of a GS-14 Step 5 employee), with an additional 30.9 percent added for benefits (U.S. Bureau of Labor Statistics, “Employer Costs for Employee Compensation,” September 2013, Table 1, percentage of wages and salaries for all civilian management, professional, and related employees), for a total annual compensation of $172,559.

C. Requests for Comments

The Commission invites comments on the proposed collection of information, including:

• Whether the collection of information described above is necessary for the proper performance of the Commission's functions, including whether the information would have practical utility;

• whether the estimated burden of the proposed collection of information is accurate;

• whether the quality, utility, and clarity of the information to be collected could be enhanced; and

• whether the burden imposed by the collection of information could be minimized by use of automated, electronic, or other technological collection techniques, or other forms of information technology.

Dated: January 22, 2014.
Todd A. Stevenson,
Secretary, Consumer Product Safety Commission.

[FR Doc. 2014-01529 Filed 1-27-14; 8:45 am]

BILLING CODE 6355-01-P